DEPARTMENT OF THE INTERIOR

National Park Service

[2253-665]

Notice of Inventory Completion: American Museum of Natural History, New York, NY

AGENCY: National Park Service, Interior.

ACTION: Notice.

SUMMARY: The American Museum of Natural History has completed an inventory of human remains, in consultation with the appropriate Indian tribe, and has determined that there is a cultural affiliation between the human remains and a present-day Indian tribe. Representatives of any Indian tribe that believes itself to be culturally affiliated with the human remains may contact the American Museum of Natural History. Repatriation of the human remains to the Indian tribe stated below may occur if no additional claimants come forward.

DATES: Representatives of any Indian tribe that believes it has a cultural affiliation with the human remains should contact the American Museum of Natural History at the address below by August 22, 2011.

ADDRESSES: Nell Murphy, Director of Cultural Resources, American Museum of Natural History, Central Park West at 79th Street, New York, NY 10024-5192, telephone (212) 769-5837.

SUPPLEMENTARY INFORMATION: Notice is here given in accordance with the Native American Graves Protection and Repatriation Act (NAGPRA), 25 U.S.C. 3003, of the completion of an inventory of human remains in the possession of the American Museum of Natural History, New York, NY. The human remains were collected from West Brewster, Cape Cod, Barnstable County, MA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the American Museum of Natural History professional staff in consultation with representatives of the Mashpee Wampanoag Tribe, Massachusetts.

History and Description of the Remains

Sometime prior to 1896, human remains representing a minimum of one individual were collected by R.W. Sears from what is identified in museum records as an “Indian grave” site in West Brewster, Cape Cod, Barnstable County, MA. The human remains were subsequently purchased by the American Museum of Natural History from the Giffort Brothers in 1896. No known individual was identified. No associated funerary objects are present.

The individual has been identified as Native American based on cranial and dental morphology, as well as the recorded association of the remains with a Native American grave site. A bioarcheologist who examined the human remains estimated them to be of a recent age. Consultation information provided by the tribe, as well as archeological and historical sources, indicate that the geographic location of the “Indian grave” site is consistent with the traditional and post-contact territory of the Mashpee Wampanoag Tribe, Massachusetts.

Determinations Made by the American Museum of Natural History

Officials of the American Museum of Natural History have determined that:

• Pursuant to 25 U.S.C. 3001(9), the human remains described above represent the physical remains of one individual of Native American ancestry.

• Pursuant to 25 U.S.C. 3001(2), there is a relationship of shared group identity that can be reasonably traced between the Native American human remains and the Mashpee Wampanoag Tribe, Massachusetts.

Additional Requestors and Disposition

Representatives of any other Indian tribe that believes itself to be culturally affiliated with the human remains should contact Nell Murphy, Director of Cultural Resources, American Museum of Natural History, Central Park West at 79th Street, New York, NY 10024-5192, telephone (212) 769-5837, before August 22, 2011. Repatriation of the human remains to the Mashpee Wampanoag Tribe, Massachusetts, may proceed after that date if no additional claimants come forward.

The American Museum of Natural History is responsible for notifying the Mashpee Wampanoag Tribe, Massachusetts, that this notice has been published.

Dated: July 14, 2011.
Sangita Chari,
Acting Manager, National NAGPRA Program.

[FR Doc. 2011-18352 Filed 7-20-11; 8:45 am]

BILLING CODE 4312-50-P